DEPARTMENT OF JUSTICE

Notice of Lodging of Consent Decree Under the Resource Conservation and Recovery Act

Under 28 CFR § 50.7, notice is hereby given that on January 16, 2002, a proposed Consent Decree in was lodged with the United States District Court for the Western District of Kentucky in United States v. LWD, Inc., Civ. No. 5:99 CV-151-R (W.D. Ky.)

The United States' Complaint filed in this action seeks assessment of civil penalties and injunctive relief against LWD for its failure to comply with a Unilateral Administrative Order issued by EPA pursuant to Section 3013(a) of the Resource Conservation and Recover Act (“RCRA”), 42 U.S.C. § 6934(a). EPA's Order required LWD to conduct a trial burn at its hazardous waste incinerator at its facility in Calvert City, Kentucky.

Under the proposed Consent Decree, LWD will pay a lump sum civil penalty of $275,000, and conduct the trial burn at its hazardous waste incinerator, according to a plan to be developed under the Decree. Within 45 days after entry of the Decree, LWD must submit its proposed trial burn plan for EPA approval, and then conduct the trial burn within six months after EPA approves the plan.

The Department of Justice will receive comments relating to the proposed Consent Decree for a period of thirty (30) days from the date of this publication. As a result of the discovery of anthrax contamination at the District of Columbia mail processing center in mid-October, 2001, the delivery of regular first-class mail sent through the U.S. Postal Service has been disrupted. Consequently, public comments which are addressed to the Department of Justice in Washington, DC and sent by regular, first-class mail through the U.S. Postal Service are not expected to be received in a timely manner. Therefore, comments should be addressed to the Assistant Attorney General, Environment and Natural Resources Division, Department of Justice, and sent: (1) By regular, first-class mail through the U.S. Postal Service, c/o Frank Ney, U.S. Environmental Protection Agency, Region 4, EAD, 61 Forsyth Street, SE., Atlanta, Georgia 30303; and/or (2) by facsimile to (202) 353-0296; and/or (3) by overnight delivery, other than through the U.S. Postal Service, to Chief, Environmental Enforcement Section, 1425 New York Avenue, NW., 13th Floor, Washington, DC 20005. Each comment and communication relating to the proposed Consent Decree should refer on its face to U.S. v. LWD, Inc., Civil No. 5:99 CV 151-R, and also to D.J. Ref. 90-7-3-05156/1.

The proposed Consent Decree may be examined at the office of the United States Attorney for the Western District of Kentucky, 510 West Broadway, 10th Floor, Louisville, Kentucky, and at the Region 4 Office of the Environmental Protection Agency, U.S. Environmental Protection Agency, 61 Forsyth Street, SE., Atlanta, Georgia. A copy of the proposed Consent Decree may also be obtained by faxing a request to Tonia Fleetwood, Department of Justice Consent Decree Library, fax no. (202) 616-6584; phone confirmation no. (202) 514-1547. There is not charge for the copy (25 cent per page reproduction cost). Upon requesting a copy, please mail a check payable to the “U.S. Treasury”, in the amount of $7.50, to: Consent Decree Library, U.S. Department of Justice, P.O. Box 7611, Washington, DC 20044-7611. The check should refer to U.S. v. LWD, Inc., Civil No. 5:99 CV151-R, D.J. Ref. 90-11-7-05156/1.

Ellen M. Mahan,
Assistant Section Chief, Environmental Enforcement Section.

[FR Doc. 02-2851 Filed 2-5-02; 8:45 am]

BILLING CODE 4410-15-M